DEPARTMENT OF DEFENSE

Department of the Air Force

Air University Board of Visitors

AGENCY: Department of the Air Force.

ACTION: Notice of meeting.

The Air University Board of Visitors will hold an open meeting on 10-13 April 2005. The first business session of each meeting will begin in the 19th Air Forces Commander's Conference Room, Randolph Air Force Base TX (5 seats available). The purpose of the meeting is to give the board an opportunity to review Air University educational programs and to present to the Commander, a report of their findings and recommendations concerning these programs.

For further information on this meeting, contact Dr. Dorothy Reed, Chief of Academic Affairs, Air University Headquarters, Maxwell Air Force Base, Alabama 36112-6335, (334) 953-5159.

Albert Bodnar,
Air Force Federal Register Liaison Officer.

[FR Doc. 05-4930 Filed 3-11-05; 8:45 am]

BILLING CODE 5001-05-P